DEPARTMENT OF LABOR

Employment and Training Administration

[TA-W-80,341]

Hartford Financial Services, Inc., Corporate/EIT/CTO Database Management Division, Hartford, CT; Notice of Negative Determination Regarding Application for Reconsideration

By application received September 6, 2011, a worker requested administrative reconsideration of the negative determination regarding workers' eligibility to apply for Trade Adjustment Assistance (TAA) applicable to workers and former workers Hartford Financial Services, Inc., Corporate/EIT/CTO Database Management Division, Hartford, Connecticut (The Hartford, Corporate/EIT/CTO Database Management Division). The negative determination was issued on August 19, 2011.

The Department's Notice of determination was published in the Federal Register on September 2, 2011 (76 FR 54794). The workers of The Hartford, Corporate/EIT/CTO Database Management Division are engaged in activities related to the supply of financial services. Specifically, the workers provide information technology support for the firm's financial services such as insurance protection and investment products.

The petition was filed on behalf of “CTO/CCMT database.org” workers at The Hartford Financial Services, Inc., Hartford, Connecticut. The petition states that the worker separations at the subject firm were due to the acquisition of services from India.

The negative determination was based on the Department's findings that The Hartford Financial Services, Inc. does not produce an article within the meaning of Section 222(a) or Section 222(b) of the Trade Act of 1974, as amended (the Act). In order to be considered eligible to apply for adjustment assistance under Section 223 of the Act, the worker group seeking certification (or on whose behalf certification is being sought) must work for a “firm” or appropriate subdivision that produces an article.

In the request for reconsideration, the petitioner asserts that The Hartford Financial Services, Inc. produces an article and that subject firm locations have worker groups eligible to apply for TAA (TA-W-74,823 through TA-W-74,823G issued on November 22, 2010; TA-W-75,165 issued on February 28, 2011; TA-W-74,396 through TA-W-74,396C issued on December 29, 2010; and TA-W-74,149 through TA-W-74,149A issued on June 30, 2010).

Pursuant to 29 CFR 90.18(c), administrative reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

After the Act as amended in 2009 expired in February 2011, petitions for TAA were instituted under the Act as amended in 2002 (Trade Act of 2002). Because the immediate petition was instituted on August 5, 2011, the applicable statute is the Trade Act of 2002.

Section 222 of the Trade Act of 2002 establishes the worker group eligibility requirements. The requirements include either “imports of articles like or directly competitive with articles produced by such firm or subdivision have increased” or “a shift in production by such workers' firm or subdivision to a foreign country of articles like or directly competitive with articles which are produced by such firm or subdivision.”

The request for reconsideration asserts that workers separated at The Hartford Financial Services, Inc., Hartford, Connecticut facility are similar to workers covered by “other locations of The Hartford Financial Services, Inc. that have been approved.”

The certifications for TA-W-74,823 and TA-W-75,165 were issued based on the Department's findings that the workers' firm supplied a service and that the firm acquired these services from a foreign country. The acquisition of services that was the basis for certification under the Act as amended in 2009 cannot be the basis for certification under the Trade Act of 2002 because the two statutes have different worker group eligibility criteria.

After careful review of the request for reconsideration, previously submitted materials, the applicable statute, and relevant regulation, the Department determines that there is no new information, mistake in fact, or misinterpretation of the facts or of the law.

Conclusion

After review of the application and investigative findings, I conclude that there has been no error or misinterpretation of the law or of the facts which would justify reconsideration of the Department of Labor's prior decision. Accordingly, the application is denied.

Signed at Washington, DC, this 14th day of September 2011.
Del Min Amy Chen,
Certifying Officer, Office of Trade Adjustment Assistance.

[FR Doc. 2011-24470 Filed 9-22-11; 8:45 am]

BILLING CODE 4510-FN-P